GENERAL SERVICES ADMINISTRATION

[Notice-MG-2014-01; Docket No. 2014-0002; Sequence 5]

Office of Federal High-Performance Green Buildings; Green Building Advisory Committee; Request for Membership Nominations

AGENCY: Office of Federal High-Performance Green Buildings, General Services Administration (GSA).

ACTION: Notice of solicitation of nominations for membership.

SUMMARY: The Administrator of the U.S. General Services Administration established the Green Building Advisory Committee on June 20, 2011 (76 FR 35894) pursuant to Section 494 of the Energy Independence and Security Act of 2007 (42 U.S.C. 17123, or EISA), in accordance with the provisions of the Federal Advisory Committee Act (FACA), as amended (5 U.S.C. App. 2). As the original 2-year commitments of the previously appointed members of the Committee have expired, this notice solicits additional qualified candidates for membership.

DATES: This notice is effective February 12, 2014.

FOR FURTHER INFORMATION CONTACT: Mr. Ken Sandler, Office of Federal High Performance Green Buildings, U.S. General Services Administration (GSA), 202-219-1121.

SUPPLEMENTARY INFORMATION: Background: The Green Building Advisory Committee (hereafter, “the Committee”) provides advice to GSA as a mandatory Federal advisory committee, as specified in EISA and in accordance with the provisions of FACA. Under this authority, the Committee advises GSA on how the Office of Federal High-Performance Green Buildings can most effectively accomplish its mission. Extensive information about the Committee, including meeting notes and presentations, is available on GSA's Web site at http://www.gsa.gov/gbac.

Membership requirements: The EISA statute authorizes the Committee and identifies the categories of members to be included. EISA names 10 Federal agencies to be represented on the Committee, and GSA works directly with these agencies to identify their qualified representatives. This notice is focused exclusively on non-Federal members. EISA provides that, in addition to its required Federal members, the Committee shall include “other relevant agencies and entities, as determined by the Federal Director.” These are to include at least one representative of each of the following categories:

“(i) State and local governmental green building programs;

(ii) independent green building associations or councils;

(iii) building experts, including architects, material suppliers, and construction contractors;

(iv) security advisors focusing on national security needs, natural disasters, and other dire emergency situations;

(v) public transportation industry experts; and

(vi) environmental health experts, including those with experience in children's health.”

EISA further specifies: “the total number of non-Federal members on the Committee at any time shall not exceed 15.” Member responsibilities: Approved Committee members will be appointed to terms of either 2 or 4 years with the possibility of extension up to a maximum of 6 years of service. Membership is limited to the specific individuals appointed and is non-transferrable. Members are expected to attend all meetings in person, review all Committee materials, and actively provide their advice and input on topics covered by the Committee. Committee members will not receive compensation or travel reimbursements from the Government except where need has been demonstrated and funds are available.

Solicitation for members: This notice provides an opportunity for individuals to present their qualifications and apply for a seat on the Committee. GSA will ask former Committee members to re-apply if they are interested in continuing to serve on the Committee. GSA will review all applications and determine which candidates are likely to add the most value to the Committee based on the criteria outlined in this notice.

At a minimum, prospective members must have:

—At least 5 years of high-performance green building experience, which may include a combination of project-based, research and policy experience.

—Academic degrees, certifications and/or training demonstrating green building and related sustainability and real estate expertise.

—Knowledge of Federal sustainability and energy laws and programs.

—Proven ability to work effectively in a collaborative, multi-disciplinary environment and add value to the work of a committee.

—Qualifications appropriate to specific statutory requirements (listed above).

No person who is a Federally-registered lobbyist may serve on the Committee, in accordance with the Presidential Memorandum “Lobbyists on Agency Boards and Commissions” (June 18, 2010). Nomination process for Advisory Committee appointment: There is no prescribed format for the nomination. Individuals may nominate themselves or others. A nomination package shall include the following information for each nominee: (1) A letter of nomination stating the name and organizational affiliation(s) of the nominee, membership capacity he/she will serve (see statutory categories above), nominee's field(s) of expertise, and description of interest and qualifications; (2) A professional resume or CV; and (3) Complete contact information including name, return address, email address, and daytime telephone number of the nominee and nominator. GSA will consider nominations of all qualified individuals to ensure that the Committee includes the areas of green building subject matter expertise needed. GSA reserves the right to choose Committee members based on qualifications, experience, Committee balance, statutory requirements and all other factors deemed critical to the success of the Committee. Candidates may be asked to provide detailed financial information to permit evaluation of potential conflicts of interest that could impede their work on the Committee, in accordance with the requirements of FACA. The nomination period for interested candidates will close 30 days after publication of this notice. All nominations must be submitted in sufficient time to be received by 5 p.m. Eastern Standard Time on the closing date March 14, 2014 and be addressed to email address ken.sandler@gsa.gov.

Dated: February 5, 2014.
Kevin Kampschroer,
Federal Director, Office of Federal High-Performance Green Buildings, Office of Government-wide Policy.

[FR Doc. 2014-02979 Filed 2-11-14; 8:45 am]

BILLING CODE 6820-14-P